DEPARTMENT OF DEFENSE

GENERAL SERVICES ADMINISTRATION

NATIONAL AERONAUTICS AND SPACE ADMINISTRATION

[OMB Control No. 9000-0184; Docket No. 2019-0003, Sequence No. 4]

Submission for OMB Review; Contractors Performing Private Security Functions Outside the United States

AGENCY: Department of Defense (DoD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding contractors performing private security functions outside the United States.

DATES: Submit comments on or before October 15, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), ATTN: Ms. Mandell, 1800 F Street NW, Washington, DC 20405.

Instructions: All items submitted must cite Information Collection 9000-0184, Contractors Performing Private Security Functions Outside the United States. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Ms. Cecelia L. Davis, Procurement Analyst, Governmentwide Acquisition Policy, at 202-219-0202 or email cecelia.davis@gsa.gov.

SUPPLEMENTARY INFORMATION:

A. OMB Number, Title, and any Associated Form(s)

OMB Control Number 9000-0184, Contractors Performing Private Security Functions Outside the United States.

B. Needs and Uses

In accordance with Federal Acquisition Regulation (FAR) 52.225-26, Contractors Performing Private Security Functions Outside the United States requires contractors performing in areas such as Iraq and Afghanistan to ensure that their personnel performing private security functions comply with 32 CFR part 159, including (1) accounting for Government-acquired and contractor-furnished property and (2) reporting incidents in which a weapon is discharged, personnel are attacked or killed or property is destroyed, or active, lethal countermeasures are employed.

C. Annual Reporting Burden

The estimated hours per response required to identify and input information increased to .5 hours per response. This is an increase from .167 hours per response published in the first notice.

Respondents: 16.

Responses per Respondent: 5.

Total Responses: 80.

Hours per Response: .5.

Total Burden Hours: 40.

Frequency: On Occasion.

Affected Public: Businesses or other for-profit institutions.

D. Public Comment

A 60-day notice published in the Federal Register at 84 FR 17830 on April 26, 2019. One comment was received. The analysis of the public comment is summarized as follows:

a. Summary of the Collection Activity is not Accurate

Comment: The respondent expressed that the summary of the collection activity is not accurate, because it only gives two examples of the purposes of the collection.

Response: After additional review of the collection activity requirement, it is deemed no change is necessary because the summary of the information collection adequately identifies the required information.

b. Low Burden Estimate

Comment: The respondent states that the burden estimate seems low for 16 private security companies, each giving 5 responses which takes a small amount of time to complete.

Response: Based on discussions with subject matter experts, it has been concluded that the estimated hours per response were underestimated. The response time has been increased from .167 to .5. This increase will more accurately reflect the burden estimate.

c. Reporting Form

Comment: The respondent indicated that the actual form should be approved along with the information collection summary to provide sufficient details to meet the reporting requirements.

Response: After further review, the reporting requirements detailed in the information collection summary are deemed to provide sufficient details to meet the objectives of FAR clause 52.225-26. No further revisions are necessary because the information collection summary adequately identifies the reporting requirements.

Obtaining Copies: Requesters may obtain a copy of the information collection documents from the General Services Administration, Regulatory Secretariat Division (MVCB), 1800 F Street NW, Washington, DC 20405, telephone 202-501-4755.

Please cite OMB Control No. 9000-0184, Contractors Performing Private Security Functions Outside the United States, in all correspondence.

Dated: September 10, 2019.
Janet Fry,
Director, Federal Acquisition Policy Division, Office of Governmentwide Acquisition Policy, Office of Acquisition Policy, Office of Governmentwide Policy.

[FR Doc. 2019-19836 Filed 9-12-19; 8:45 am]

BILLING CODE 6820-EP-P